DEPARTMENT OF AGRICULTURE

Forest Service

Plumas County Resource Advisory Committee (RAC)

AGENCY: Forest Service, USDA.

ACTION: Notice of meetings.

SUMMARY: The Plumas County Resource Advisory Committee (RAC) will hold meetings on March 19, in Quincy, California, April 16, July 9, and on August 6, 2004. Locations for the latter three meetings will be decided at the March meeting. Purposes of the March 19 meeting include review and discussion related to the Sierra Nevada Framework Amendment-Record of Decision and Health Forest Initiative in addition to reports from various subcommittees including project monitoring and stewardship contracting. The purpose of the April 16 meeting is to review concept papers from potential project applicants in the 4th cycle of funding under the Title 2 provisions of the Secure Rural Schools and Community Self-Determination Act of 2000. The purpose of the July 9 meeting is to review final applications that result from the concept paper review process in April. Selected projects will then be recommended to the Plumas National Forest (PNF) Supervisor for funding. The purpose of the August 6 meeting is to review PNF Supervisor decisions for funding Cycle 4 projects that were recommended by the RAC.

DATES AND ADDRESSES: The March 19 meeting will take place from 9-2 p.m., in the Mineral Building at the Plumas-Sierra County Fairgrounds, 204 Fairgrounds Road, Quincy, California. Locations and times for the April 16, July 9, and August 6, 2004 meetings will be decided at the March 19 meeting.

FOR FURTHER INFORMATION CONTACT: Lee Anne Schramel Taylor, Forest Coordinator, USDA, Plumas National Forest, P.O. Box 11500/159 Lawrence Street, Quincy, CA 95971; (530) 283-7850; or by e-mail eataylor@fs.fed.us.

SUPPLEMENTARY INFORMATION: Agenda items for the March 19 meeting include: (1) Updates on the Sierra Nevada Plan Amendment ROD and the Healthy Forest Initiative; (2) Sub-committee reports including monitoring and stewardship contracting; (3) Misc. activities and updates on funded projects, and, (4) Future meeting schedule/logistics/agenda. Agenda items, in addition to those noted in the summary, will be developed at a later date. The meetings are open to the public and individuals may address the Committee after being recognized by the Chair. Other RAC information including previous meeting agendas and minutes may be obtained at http://www.fs.fed.us/r5/pay2states.

Dated: March 12, 2004.
Robert G. MacWhorter,
Deputy Forest Supervisor.

[FR Doc. 04-6115 Filed 3-17-04; 8:45 am]

BILLING CODE 3410-11-M